SMALL BUSINESS ADMINISTRATION

Inspector General; Line of Succession Designation, No. 23-C, Revision 5

This document replaces and supersedes “Delegation of Authority and Line of Succession No. 23-C, Revision 4.”

Line of Succession Designation, No. 23-C, Revision 5:

Effective immediately, the Inspector General's Line of Succession Designation is as follows:

(a) In the event of my inability to perform the functions and duties of my position, or my absence from the office, the Deputy Inspector General, who is the first assistant for purposes of the Federal Vacancies Reform Act of 1998 (5 U.S.C. § 3345-3349d), will assume all functions and duties of the Inspector General. In the event the Deputy Inspector General and I are both unable to perform the functions and duties of the position or are absent from our offices, and in the absence of the specific designation of another official in writing by the Inspector General or the Acting Inspector General, I designate the officials in listed order below, if they are eligible to act as Inspector General under the provisions of the Federal Vacancies Reform Act of 1998, to serve as Acting Inspector General with full authority to perform all acts which the Inspector General is authorized to perform:

(1) Assistant Inspector General for Auditing;

(2) Assistant Inspector General for Investigations;

(3) Assistant Inspector General for Management and Policy;

(4) Counsel to the Inspector General;

(5) Special Assistant to the Inspector General; and

(6) Special Agent-in-Charge-Eastern, Central, or Western Region (by seniority).

(b) “Absence from the office,” as used in reference to myself in paragraph (a) above, means the following:

(1) I am not present in the office and cannot be reasonably contacted by phone or other electronic means, and there is an immediate business necessity for the exercise of my authority; or

(2) I am not present in the office and, upon being contacted by phone or other electronic means, I determine that I cannot exercise my authority effectively without being physically present in the office.

(c) An individual serving in an acting capacity in any of the positions listed in subparagraphs (a)(1) through (6), unless designated as such by the Inspector General, is not included in this Line of Succession. Instead, the next non-acting incumbent in the Line of Succession shall serve as Acting Inspector General.

(d) This designation shall remain in full force and effect until revoked or superseded in writing by the Inspector General, or by the Deputy Inspector General when serving as Acting Inspector General.

(e) Serving as Acting Inspector General has no effect on the officials listed in subparagraphs (a)(1) through (6), above, with respect to their full-time position's authorities, duties and responsibilities (except that such official cannot both recommend and approve an action).

Dated: June 20, 2012.
Peggy E. Gustafson,
Inspector General.

[FR Doc. 2012-15561 Filed 6-25-12; 8:45 am]

BILLING CODE P